DEPARTMENT OF ENERGY

Energy Information Administration

Agency Information Collection Extension

AGENCY: U.S. Energy Information Administration (EIA), Department of Energy.

ACTION: Notice and request for OMB review and comment.

SUMMARY: The EIA has submitted an information collection request to the OMB for extension under the provisions of the Paperwork Reduction Act of 1995. The information collection requests a three-year extension of the Form NWPA-830G, “Appendix G—Standard Remittance Advice for Payment of Fees,” including Annex A to Appendix G, OMB Control Number 1901-0260. Form NWPA-830G is an Appendix to the Standard Contract for Disposal of Spent Nuclear Fuel and/or High-Level Radioactive Waste, entered into by DOE and the generators or owners of spent nuclear fuel. The proposed collection will continue to collect data on quarterly fee payments paid into the Nuclear Waste Fund and on the amount of net electricity generated and sold, upon which the fees are based. There are no proposed changes to the survey forms.

DATES: Comments regarding this proposed information collection must be received on or before December 28, 2012. If you anticipate that you will be submitting comments, but find it difficult to do so within the period of time allowed by this notice, please advise the DOE Desk Officer at OMB of your intention to make a submission as soon as possible. The Desk Officer may be telephoned at 202-395-4718.

ADDRESSES: Written comments should be sent to the:

DOE Desk Officer, Office of Information and Regulatory Affairs, Office of Management and Budget, New Executive Office Building, Room 10102, 735 17th Street NW., Washington, DC 20503.

and to:

Department of Energy, U.S. Energy Information Administration, Attn: Marta Gospodarczyk, EI-34, Forrestal Building, 1000 Independence Ave. SW., Washington, DC 20585, 202-586-0527, Fax at 202-586-3045, Email at marta.gospodarczyk@eia.gov.

FOR FURTHER INFORMATION CONTACT: Requests for additional information or copies of the information collection forms and instructions should be directed to Ms. Gospodarczyk at the contact information given above. Additionally, forms and instructions may be viewed at http://www.eia.gov/survey/#nwpa-830G.

SUPPLEMENTARY INFORMATION: This information collection request contains:

(1) OMB No. 1901-0260;

(2) Information Collection Request Title: Standard Contract for Disposal of Spent Nuclear Fuel and/or High-Level Radioactive Waste; Appendix G—Standard Remittance Advice for Payment of Fees, including Annex A to Appendix G;

(3) Type of Request: Three-year extension of a currently approved data collection;

(4) Purpose: Collects basic data from owners and generators of spent nuclear fuel that entered into Standard Contracts with DOE. The forms, which are submitted quarterly, serve as the source documents for entries into DOE accounting records regarding fee payments into the Nuclear Waste Fund.

(5) Annual Estimated Number of Respondents: 104;

(6) Annual Estimated Number of Total Responses: 416;

(7) Annual Estimated Number of Burden Hours: 2080;

(8) Annual Estimated Reporting and Recordkeeping Cost Burden: $0; EIA estimates that there are no additional costs to respondents associated with the surveys other than the costs associated with the burden hours.

Statutory Authority: Section 13(b) of the Federal Energy Administration Act of 1974, Pub. L. 93-275, codified at 15 U.S.C. 772(b); Section 302 of the Nuclear Waste Policy Act of 1982, codified at 42 U.S.C. 10222.

Issued in Washington, DC, on November 20, 2012.
Stephanie Brown,
Director, Office of Survey Development and Statistical Integration, U.S. Energy Information Administration.

[FR Doc. 2012-28814 Filed 11-27-12; 8:45 am]

BILLING CODE 6450-01-P